DEPARTMENT OF HOUSING AND URBAN DEVELOPMENT

[Docket No. FR-7034-N-59]

30-Day Notice of Proposed Information Collection: Phase 1 Evaluation of the Housing Choice Voucher Mobility Demonstration, OMB Control No.: 2528-New

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: November 18, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on January 25, 2021 at 86 FR 6909.

A. Overview of Information Collection

Title of Information Collection: Phase 1 Evaluation of the Housing Choice Voucher Mobility Demonstration.

OMB Approval Number: 252-New.

Type of Request: New collection.

Form Number: N/A.

Description of the need for the information and proposed use:

The Office of Policy Development and Research (PD&R), at the U.S. Department of Housing and Urban Development (HUD), is proposing the collection of information for Phase 1 Evaluation of the Housing Choice Voucher (HCV) Mobility Demonstration. Under contract with HUD PD&R, Abt Associates Inc. and its subcontractors the Urban Institute, MEF Associates, Social Policy Research Associates, and Sage Consulting are conducting Phase 1 of a planned two-phase Evaluation of the HCV Mobility Demonstration. The Demonstration is a multi-site, randomized-controlled trial of the effect of housing mobility-related services on the share of HCV holders with children that move to lower poverty areas.

This Demonstration will allow participating public housing agencies (PHAs) throughout the country to implement housing mobility programs by offering mobility-related services to increase the number of voucher families with children living in opportunity areas. Participating PHAs will work together in their regions to adopt administrative policies that further enable housing mobility, increase landlord participation, and reduce barriers for families to move across PHA jurisdictions through portability. Eligible families that consent to participate in the Demonstration are randomly assigned to either receive mobility-related services or to not receive services.

Through the Demonstration, HUD will implement, test, and evaluate whether housing mobility programs expand access to opportunity neighborhoods. The Demonstration will roll out in two phases over a period of approximately six years. The Phase 1 Evaluation has a five-year period of performance and will evaluate the effectiveness of a comprehensive set of mobility-related services at no more than 10 sites. For voucher holders, outcomes of the mobility-related services are hypothesized to be increases in the number of families who move to lower poverty areas. The Phase 1 evaluation will also document the implementation of the Demonstration and analyze the cost-effectiveness of mobility-related services.

Data collection efforts include the families that are part of the treatment and control groups, as well as PHA and mobility-related services staff, and landlords of properties participating in the HCV program. Data will be gathered through a variety of methods including informational interviews and discussions, direct observation, and analysis of administrative records.

Exhibit A-4—Estimated Annual Respondent Burden
Information collection | Number of respondents | Frequency of response | Responses per annum | Burden hour per response | Annual burden hours | Hourly cost per response | Cost
Household Roster and Baseline Information Form (Instrument 1) | 10,100 | 1 | 10,100 | 0.75 | 7,575 | $7.39 | $55,979.25
Phase 1—Head of Household Existing Voucher Family Informed Consent for Study Participation (Attachment B) | 6,334 | 1 | 6,334 | 0.25 | 1,583.5 | 7.39 | 11,702.07
Phase 1—Head of Household Waitlist Family Informed Consent for Study Participation (Attachment C) | 3,166 | 1 | 3,166 | 0.25 | 791.5 | 7.39 | 5,849.19
Phase 2—Head of Household Existing Voucher Family Informed Consent for Study Participation (Attachment N) | 400 | 1 | 400 | 0.25 | 100 | 7.39 | 739.00
Phase 2—Head of Household Waitlist Family Informed Consent for Study Participation (Attachment O) | 200 | 1 | 200 | 0.25 | 50 | 7.39 | 369.50
Phase 1—Other Adult Household Member Informed Consent for Study Participation (Attachment D) | 10,100 | 1 | 10,100 | 0.25 | 2,525 | 7.39 | 18,659.75
Phase 2—Other Adult Household Member Informed Consent for Study Participation (Attachment P) | 5,050 | 1 | 5,050 | 0.25 | 1,262.5 | 7.39 | 9,329.88
Parent/Guardian Permission Form (Attachment E) | 10,100 | 1 | 10,100 | 0.25 | 2,525 | 7.39 | 18,659.75
Baseline Survey (Instrument 2) | 10,100 | 1 | 10,100 | 0.75 | 7,575 | 7.39 | 55,979.25
PHA Staff Interview Guide (Instrument 3) | 45 | 1 | 45 | 1.5 | 67.5 | 42.47 | 2,866.73
Head of Household Family Interview Advance Letter (Attachment I) | 180 | 1 | 180 | 0.17 | 30.6 | 7.39 | 226.13
Head of Household Family Interview Email Reminder (Attachment J) | 180 | 1 | 180 | 0.08 | 14.4 | 7.39 | 106.42
Head of Household Family Interview Consent Form (Attachment H) | 180 | 1 | 180 | 0.25 | 45 | 7.39 | 332.55
Interview Guide for Participating Families Currently Searching for Housing (Instrument 5) | 90 | 1 | 90 | 1.5 | 135 | 7.39 | 997.65
Interview Guide for Participating Families Who Have Leased Up (Instrument 6) | 90 | 1 | 90 | 1.5 | 135 | 7.39 | 997.65
Mobility Services Provider Interview Outreach (Attachment K) | 45 | 1 | 45 | 0.17 | 7.65 | 25.06 | 191.71
Mobility Services Provider Interview Guide (Instrument 4) | 45 | 1 | 45 | 1.5 | 67.5 | 25.06 | 1,691.55
Cost Study Data Collection Outreach (Attachment M) | 34 | 1 | 34 | 0.17 | 5.78 | 42.47 | 245.48
Cost Data Collection Interview Guide (Instrument 8) | 34 | 1 | 34 | 2 | 68 | 42.47 | 2,887.96
Landlord Interview Advance Letter (Attachment L) | 72 | 1 | 72 | 0.17 | 12.24 | 35.37 | 432.93
Interview Guide for Opportunity Area Landlords (Instrument 7) | 36 | 1 | 36 | 1 | 36 | 35.37 | 1,273.32
Mobility Services Delivery Tool (Attachment G) | 30 | 1,512 | 45,360 | 0.2 | 9,072 | 25.06 | 227,344.32
Total | 56,611 |  | 101,941 |  | 33,684.17 |  | 416,862.01

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Anna P. Guido,
Department Reports Management Officer, Office of the Chief Information Officer.

[FR Doc. 2021-22755 Filed 10-18-21; 8:45 am]

BILLING CODE 4210-67-P